INTERNATIONAL TRADE COMMISSION

[Investigation Nos. 701-TA-681 and 731-TA-1591 (Final)]

White Grape Juice Concentrate From Argentina

AGENCY: International Trade Commission.

ACTION: Suspension of anti-dumping and countervailing duty investigations.

SUMMARY: On March 24, 2023, the U.S. Department of Commerce (“Commerce”) published notices in the Federal Register of the suspension of its antidumping and countervailing duty investigations on white grape juice concentrate (“WGJC”) from Argentina (Federal Register, March 24, 2023). Both suspension agreements took effect on March 17, 2023. The antidumping duty suspension agreement is based upon an agreement between Commerce and producers/exporters which account for substantially all imports of white grape juice concentrate from Argentina, in which each signatory producer/exporter has agreed to revise its prices to eliminate completely the injurious effects of exports of WGJC to the United States. The countervailing duty suspension agreement is based upon an agreement between Commerce and the Government of Argentina (“GOA”), wherein the GOA has agreed not to provide any new or additional export or import substitution subsidies on the subject merchandise and has agreed to restrict the volume of direct or indirect exports to the United States of WGJC from all Argentine producers/exporters in order to eliminate completely the injurious effects of exports of this merchandise to the United States. Accordingly, the U.S. International Trade Commission gives notice of the suspension of its antidumping and countervailing duty investigations involving imports of WGJC from Argentina, provided for in subheading 2009.69.00 of the Harmonized Tariff Schedule of the United States.

DATES: March 24, 2023.

FOR FURTHER INFORMATION CONTACT: Ahdia Bavari (202-205-3191), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

Authority: These investigations are being suspended under authority of title VII of the Tariff Act of 1930 and pursuant to section 207.40(b) of the Commission's Rules of Practice and Procedure (19 CFR 207.40(b)). This notice is published pursuant to section 201.10 of the Commission's rules (19 CFR 201.10).

By order of the Commission.
Issued: March 27, 2023.
Lisa Barton,
Secretary to the Commission.

[FR Doc. 2023-06669 Filed 3-30-23; 8:45 am]

BILLING CODE 7020-02-P